DEPARTMENT OF COMMERCE

National Oceanic and Atmospheric Administration

RIN: 0648-XN98

North Pacific Fishery Management Council; Public Meeting

AGENCY: National Marine Fisheries Service (NMFS), National Oceanic and Atmospheric Administration (NOAA), Commerce.

ACTION: Notice of a public meeting of the North Pacific Fishery Management Council's Pacific Northwest Crab Industry Advisory Committee (PNCIAC).

SUMMARY: The PNCIAC will meet in Seattle, WA. The meeting is open to the public.

DATES: The meeting will be held on Monday, March 23, 2009, from 9 a.m. to 1 p.m.

ADDRESSES: The meeting will be held at the Leif Erikson Hall, 2247 NW 57th Street, Suite 403, Seattle, WA 98107 (in Ballard); telephone: (206) 769-3474.

Council address: North Pacific Fishery Management Council, 605 W. 4th Ave., Suite 306, Anchorage, AK 99501-2252.

FOR FURTHER INFORMATION CONTACT: Dr. Diana Stram, Council Staff; telephone: (907) 271-2809.

SUPPLEMENTARY INFORMATION: The PNCIAC will review the Economic Data Reports: Review Alaska Fishery Science Center draft metadata and continue work on revisions of EDR forms; and discuss of Marine Stewartship Council/sustainable fisheries certification issues and take action as needed.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305 (c) of the Magnuson-Stevens Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: March 5, 2009.
Tracey L. Thompson,
Acting Director, Office of Sustainable Fisheries, National Marine Fisheries Service.

[FR Doc. E9-5104 Filed 3-10-09; 8:45 am]

BILLING CODE 3510-22-S